NATIONAL AERONAUTICS AND SPACE ADMINISTRATION

[Notice 03-106]

Government-Owned Inventions, Available for Licensing

ACTION: Notice of availability of inventions for licensing.

SUMMARY: The inventions listed below are assigned to the National Aeronautics and Space Administration, have been filed in the United States Patent and Trademark Office, and are available for licensing.

DATES: September 15, 2003.

FOR FURTHER INFORMATION CONTACT: Linda Blackburn, Patent Counsel, Langley Research Center, Mail Code 212, Hampton, VA 23681-2199; telephone (757) 864-9260; ax (757) 864-9190.

NASA Case No. LAR-15361-3-CU: Gas Sensor Detector Balancing;

NASA Case No. LAR-15712-2-CU: Optical Path Switching Based Differential Absorption Radiometry For Substance Detection;

NASA Case No. LAR-15818-3: Optical Path Switching Based Differential Absorption Radiometry For Substance Detection;

NASA Case No. LAR-16327-1: Method For Anticipating Problems With Electrical Wiring;

NASA Case No. LAR-16430-1-NP: Polymides From 2,3,3',4'-Biphenyltetracarboxylic Dianhydride And Aromatic Diamines;

NASA Case No. LAR-16576-1: Marking Electrical Wiring With Condition Indicators.

Dated: September 18, 2003.
Robert M. Stephens,
Deputy General Counsel.

[FR Doc. 03-23493 Filed 9-12-03; 8:45 am]

BILLING CODE 7510-01-M